DEPARTMENT OF JUSTICE

Antitrust Division

Notice Pursuant to the National Cooperative Research and Production Act of 1993; SMC Research Consortium

Notice is hereby given that, on September 16, 1999, pursuant to Section 6(a) of the National Cooperative Research and Production Act of 1993, 15 U.S.C. 4301 et seq. (“the Act”), SMC Research Consortium has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are The Budd Company, Troy, MI; Cambridge Industries, Inc., Madison Heights, MI; and Venture Holdings Corporation, doing business as Bailey Manufacturing Corporation, Fraser, MI. The nature and objectives of the venture are to engage in joint research projects to address, analyze and resolve manufacturing problems common to molders of plastic sheet molding compounds including, for example, coatings; edge finishing; repair systems; surface measurement; and shipping rack design.

Constance K. Robinson,
Director of Operations Antitrust Division.

[FR Doc. 00-10597 Filed 4-27-00; 8:45 am]

BILLING CODE 4410-11-M